OFFICE OF THE UNITED STATES TRADE REPRESENTATIVE

Notice of Redelegation of Authority and Further Assignment of Functions

AGENCY: Office of the United States Trade Representative.

ACTION: The United States Trade Representative (USTR) is redelegating authorities and further assigning functions under the Trade Act of 2002 (“Trade Act”) to other agencies and departments of the Executive Branch.

SUMMARY: The Trade Act specifically granted to the President certain authorities and assigned certain functions related to agreements covered by Trade Act provisions. In Executive Order 13277 (67 FR 7305), the President delegated certain authorities and assigned certain functions to the USTR and provided guidance for exercising that authority and performing those functions, including the redelegation of authority and further assignment of functions to officers of any other department or agency within the Executive Branch. This notice informs the public of the USTR's redelegation of authorities and further assignment of functions. This notice does not create any right or benefit, substantive or procedural, enforceable at law or equity by a party against the United States, its agencies, its officers, or any person.

DATES: These actions are effective immediately.

Redelegation of Authorities and Further Assignment of Functions

Pursuant to section 3(b)(ii) of Executive Order 13277, the USTR hereby redelegates certain authorities and further assigns certain functions delegated or assigned to the USTR as set forth below. Agencies and departments to which authorities are delegated or functions are assigned shall exercise or perform them in a manner that is supportive of agreements subject to the Trade Act.

(a) The functions of the President under section 2102(c)(5) of the Trade Act with respect to reviewing the impact of trade agreements on U.S. employment, including labor markets, assigned to the USTR are further assigned to the Secretary of Labor. Such reviews will be conducted through the interagency Trade Policy Staff Committee.

(b) The USTR, in carrying out the assessment required under section 2104(c), may obtain the advice and assistance of the Secretary of Commerce. The USTR will report to the Committee on Ways and Means of the House of Representatives and the Committee on Finance of the Senate on proposals related to trade remedies as provided under section 2104(d)(3)(A) with the advice and assistance of the Secretary of Commerce and the U.S. International Trade Commission.

(c) The functions of the President under section 2108(a)(1-3) and (5), as they pertain to section 2108(1-3) of the Trade Act with respect to preparing and submitting to Congress implementation and enforcement plans for trade agreements, that have been assigned to the USTR are further assigned to the Director of the Office of Management and Budget who shall carry out these functions with the advice and assistance of the Secretaries of Agriculture, Commerce, State and the Treasury and the U.S. Trade Representative and other agencies and departments as necessary.

(d) The authorities and functions of the President under sections 204(b)(3)(B)(ii), 204(b)(3)(B)(vi)(II)(cc), 204(b)(3)(C), 204(b)(3)(D), and 204(b)(3)(E) of the Andean Trade Preferences Act (ATPA) (19 U.S.C. 3203(b)(3)(B)(ii), 3203(b)(B)((vi)(II)(cc), 3203(b)(3)(C), 3203(b)(3)(D), and 3202(b)(3)(E)) that have been delegated or assigned to the USTR are redelegated and further assigned to the Secretary of State, the Secretary of the Treasury, the Secretary of Commerce, and the Secretary of Labor and may be redelegated or further assigned within each department or agency consistent with law. In exercising these authorities and performing these functions, these officials, including the USTR, or their designees shall act collectively in accordance with the requirements and procedures set forth in sections 1(a) and (b) of Executive Order 11651, as amended, and in Executive Order 13191.

Dated: November 25, 2002.
Robert B. Zoellick,
United States Trade Representative.

[FR Doc. 02-30427 Filed 11-29-02; 8:45 am]

BILLING CODE 3190-01-M